DEPARTMENT OF THE INTERIOR

Fish and Wildlife Service

Receipt of Applications for Endangered Species Permits

AGENCY: Fish and Wildlife Service, Interior.

ACTION: Notice.

SUMMARY: The public is invited to comment on the following applications to conduct certain activities with endangered species.

DATES: We must receive written data or comments on these applications at the address given below, by August 28, 2006.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered and threatened species. This notice is provided under section 10(c) of the Endangered Species Act of 1973, as amended (16 U.S.C. 1531 et seq.). If you wish to comment, you may submit comments by any one of the following methods. You may mail comments to the Service's Regional Office (see ADDRESSES section) or via electronic mail (e-mail) to victoria_davis@fws.gov. Please include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Bernard R. Kuhajda, University of Alabama, Tuscaloosa, Alabama, TE129505-0.

The applicant requests authorization to take (capture, identify, release) the Cahaba shiner (Notropis cahabae) and the goldline darter (Percina aurolineata) while conducting population surveys and while determining the negative impacts a polluted tributary, Shades Creek, may have on the fish community and the species in the Cahaba River. The activities would occur in the Cahaba River (Mobile Basin) near the Bibb and Shelby County Line, Alabama.

Applicant: HMB Professional Engineers, Inc., Frankfort, Kentucky, TE129703-0.

The applicant requests authorization to take (capture, identify, relocate nest, release) the following species: Southern acornshell (Epioblasma othcaloogensis), gray bat (Myotis grisescens), Indiana bat (Myotis sodalis), Cumberland bean pearlymussel (Villosa trabalis), purple bean (Villosa perpurpurea), green blossom pearlymussel (Epioblasma torulosa gubernaculum), turgid blossom pearlymussel (Epioblasma turgidula), yellow blossom pearlymussel (Epioblasma florentina florentina), catspaw (=purple cat's paw pearlymussel) (Epioblasma obliquata obliquata), slender chub (Erimystax cahni), spotfin chub (Erimonax monachus), Cumberlandian combshell (Epioblasma brevidens), upland combshell (Epioblasma metastriata), Nashville crayfish (Orconectes shoupi), blackside dace (Phoxinus cumberlandensis), amber darter (Percina antesella), bluemask darter (Etheostoma sp.), boulder darter (Etheostoma wapiti), duskytail darter (Etheostoma percnurum), slackwater darter (Etheostoma boschungi), snail darter (Percina tanasi), bald eagle (Haliaeetus leucocephalus), Appalachian elktoe (Alasmidonta raveneliana), Cumberland elktoe (Alasmidonta atropurpurea), fanshell (Cyprogenia stegaria), triangular kidneyshell (Ptychobranchus greenii), Alabama lampmussel (Lampsilis virescens), pale lilliput pearlymussel (Toxolasma cylindrellus), Conasauga logperch (Percina jenkinsi), pygmy madtom (Noturus stanauli), smoky madtom (Noturus baileyi), yellowfin madtom (Noturus flavipinnis), winged mapleleaf (Quadrula fragosa), royal marstonia snail (Pyrgulopsis ogmorhaphe), Coosa moccasinshell (Medionidus parvulus), Appalachian pearlymussel monkeyface (Quadrula sparsa), Cumberland pearlymussel (Quadrula intermedia), pink pearlymussel mucket (Lampsilis abrupta), oyster mussel (Epioblasma capsaeformis), birdwing pearlymussel (Conradilla caelata), cracking pearlymussel (Hemistena lata), dromedary pearlymussel (Dromus dromas), littlewing pearlymussel (Pegias fabula), Cumberland pigtoe (Pleurobema gibberum), finerayed pigtoe (Fusconaia cuneolus), rough pigtoe (Pleurobema plenum), shiny pigtoe (Fusconaia cor), southern pigtoe (Pleurobema georgianum), orangefoot pearlymussel pimpleback (Plethobasus cooperianus), rough rabbitsfoot (Quadrula cylindrica strigillata), tan riffleshell (Epioblasma florentina walkeri (E. walkeri)), ring pink (Obovaria retusa), Anthony's riversnail (Athearnia anthonyi), blue shiner (Cyprinella caerulea), painted snake coiled forest snail (Anguispira picta), spruce-fir moss spider (Microhexura montivage), Carolina northern flying squirrel (Glaucomys sabrinus coloratus), pallid sturgeon (Scaphirhynchus albus), and white pearlymussel wartyback (Plethobasus cicatricosus) while conducting presence/absence surveys. The proposed activities would occur throughout the State of Tennessee.

Applicant: Iowa State University, Brent J. Danielson, Ames, Iowa, TE130175-0.

The applicant requests authorization to take (capture, band, release) the Alabama beach mouse (Peromyscus polionotus ammobates) and Perdido Key beach mouse (Peromyscus polionotus trissyllepsis) while conducting presence/absence surveys and population estimates. The proposed activities would occur in Baldwin County, Alabama, from the extreme west end of Morgan peninsula to the eastern edge of Baldwin County and the Alabama State line.

Applicant: Nadia Spencer, Key Largo, Florida, TE130177-0.

The applicant requests authorization to take (capture, relocate, release) the Key Largo woodrat (Neotoma floridana smallii), Key Largo cotton mouse (Peromyscus gossypinus allapaticola), and the Stock Island tree snail (Orthalicus reses reses) while conducting presence/absence surveys and relocation activities. The proposed activities would occur in Key Largo and the Florida Keys, Monroe County, Florida.

Applicant: James A. Carpenter, Nashville, Tennessee, TE130941-0.

The applicant requests authorization to take (capture, examine, release) the Nashville crayfish (Orconectes shoupi) while conducting presence/absence surveys. The proposed activities would occur in the Mill Creek watershed, Davidson and Williamson Counties, Tennessee.

Dated: July 12, 2006.
Cynthia K. Dohner,
Acting Regional Director, Southeast Region.

[FR Doc. 06-6540 Filed 7-27-06; 8:45 am]

BILLING CODE 4310-55-P